DEPARTMENT OF THE INTERIOR

Bureau of Land Management

[CACA 049584, L51010000.FX0000.LVRWB09B3130]

Notice of Intent To Prepare an Environmental Impact Statement, a Possible Land Use Plan Amendment, and a Public Lands Segregation for the Proposed Soda Mountain Solar Project, CA

AGENCY: Bureau of Land Management, Interior.

ACTION: Notice.

SUMMARY: In compliance with the National Environmental Policy Act of 1969, as amended (NEPA), and the Federal Land Policy and Management Act of 1976, as amended (FLPMA), the Bureau of Land Management (BLM), together with San Bernardino County, intend to prepare a joint Environmental Impact Statement (EIS)/Environmental Impact Report (EIR), which may include an amendment to the California Desert Conservation Area (CDCA) Plan, for the Soda Mountain Solar Project (Project). By this notice, the BLM is announcing the beginning of the scoping process to solicit public comments and identify issues related to the EIS/Plan Amendment (PA).

DATES: This notice initiates the public scoping process for the EIS/EIR/PA. Comments on issues may be submitted in writing until November 23, 2012. The date(s) and location(s) of any scoping meetings will be announced at least 15 days in advance through local media, newspapers, and the BLM Web site at: http://www.blm.gov/ca/st/en/fo/cdd.html. In order to be included in the analysis, all comments must be received prior to the close of the 30-day scoping period or 15 days after the last public meeting, whichever is later. We will provide additional opportunities for public participation as appropriate.

ADDRESSES: You may submit comments on issues and planning criteria related to the Soda Mountain Solar Project by any of the following methods:

• Web site: http://www.blm.gov/ca/st/en/fo/cdd.html.

• Email: Sodamtnsolar@blm.gov.

• Fax: 951-697-5299.

• Mail: ATTN: Jeffery Childers, Project Manager, BLM California Desert District Office, 22835 Calle San Juan de Los Lagos, Moreno Valley, CA 92553-9046.

Documents pertinent to this proposal may be examined at the BLM California Desert District Office at the above address.

FOR FURTHER INFORMATION CONTACT: For further information and/or to have your name added to our mailing list, contact Jeffery Childers; telephone 951-697-5308; address BLM California Desert District Office, 22835 Calle San Juan de Los Lagos, Moreno Valley, California 92553-9046; email jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Soda Mountain Solar, LLC, has requested a right-of-way (ROW) authorization to construct, operate, maintain and decommission a maximum 350 megawatt (MW) photovoltaic facility and necessary ancillary facilities, including a project substation, access road, realignment of an existing designated route (Rasor Road), operations and maintenance buildings, and lay down areas. The project is proposed on 4,397 acres with the solar field occupying approximately 2,691 acres. This Notice informs the public that the BLM intends to prepare a Draft CDCA Plan amendment and associated EIS/EIR with San Bernardino County for the Project and announces the beginning of the scoping process to seek public input on environmental issues and planning criteria.

The purpose of the public scoping process is to determine relevant issues that will influence the scope of the environmental analysis, including alternatives, and guide the process for developing the EIS/EIR. At present, the BLM has identified the following preliminary issues: Air quality and greenhouse gas emissions; biological resources, including special status species, cultural resources, geology and soils; hazards and hazardous materials; hydrology and water quality; land use; noise; recreation; traffic; visual resources; cumulative effects; and areas with high potential for renewable energy development.

You may submit comments on issues and planning criteria in writing to the BLM at any public scoping meeting, or you may submit them to the BLM using one of the methods listed in the ADDRESSES section above. Comments must be received by the close of the 30-day scoping period or within 15 days after the last public meeting, whichever is later.

Pursuant to the BLM's CDCA Plan, sites associated with power generation or transmission not identified in the Plan will be considered through the plan amendment process to determine the suitability of the site for renewable energy development. Since the proposed Project site was not previously identified as suitable, authorization of the Project would require amendment of the CDCA Plan. By this notice, the BLM is complying with requirements in 43 CFR 1610.2(c) to notify the public of potential amendments to the CDCA Plan predicated on the findings in the EIS/EIR. If a land use plan amendment is necessary, the BLM will integrate the land use planning process with the NEPA process for the Project. A preliminary list of the potential planning criteria that will be used to help guide and define the scope of the plan amendment includes:

1. The plan amendment will be completed in compliance with FLPMA, NEPA, and all other relevant Federal laws, executive orders, and BLM policies;

2. Existing valid plan decisions will not be changed and any new plan decisions will not conflict with existing plan decisions; and

3. The plan amendment(s) will recognize valid existing rights.

Pursuant to 43 CFR 2091.3-1(e) and 43 CFR 2804.25(e), the BLM is segregating the following described public lands, located in the State of California, subject to valid existing rights, from operation of the public land laws and mining laws, but not the mineral leasing or the material sale laws.

San Bernardino Meridian

T. 12 N., R. 7 E.,

Sec. 1, unsurveyed;

Sec. 2, unsurveyed;

Sec. 11, N½NE¼, SE¼;NE¼, NE¼NW¼, and SE¼;

Sec. 12, unsurveyed;

Sec. 13, unsurveyed;

Sec. 14, N½NE¼.

T.13 N., R. 7 E.,

Sec. 25, unsurveyed;

Sec. 36, NE¼, E½NW¼, and S½;.

T. 12 N., R. 8 E.,

Sec. 6, unsurveyed;

Sec. 7, unsurveyed;

Sec. 18, unsurveyed.

T. 13 N., R. 8 E.,

Sec. 17, unsurveyed;

Sec. 18, unsurveyed;

Sec. 19, unsurveyed;

Sec. 20, unsurveyed;

Sec. 30, unsurveyed;

Sec. 31, unsurveyed.

Containing 9,662 acres, more or less, in San Bernardino County, California.

In order to process the ROW application filed on the above described lands and continue to maintain the status quo, the BLM is segregating the above-described lands for a period of 2 years, subject to valid existing rights. The BLM has determined that this segregation is necessary for the orderly administration of the public lands.

The segregation period will terminate upon the date that is the earliest of the following: (1) The BLM issues a decision granting, granting with modifications, or denying the ROW application for the solar energy generation proposal; (2) Publication of a Federal Register notice of termination of the segregation; or (3) Automatically at the end of the segregation period provided for herein, without further administrative action by the BLM. The segregation made under this authority is effective only for a period of up to 2 years, without the possibility of extension.

The BLM will use the NEPA public participation requirements to assist the agency in satisfying the public involvement requirements under Section 106 of the National Historic Preservation Act (NHPA) (16 U.S.C. 470(f)) as provided for in 36 CFR 800.2(d)(3). The information about historic and cultural resources within the area potentially affected by the proposed Project and CDCA Plan amendment will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be asked by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

The BLM will evaluate identified issues to be addressed in the plan amendment, and will place them into one of three categories:

1. Issues to be resolved in the plan amendment;

2. Issues to be resolved through policy or administrative action; or

3. Issues beyond the scope of this plan amendment.

The BLM will provide an explanation in the Scoping Report or the Draft EIS/EIR as to why an issue was placed in category two or three. The public is also encouraged to help identify any management questions and concerns that should be addressed in the plan. The BLM will work collaboratively with interested parties to identify the management decisions that are best suited to local, regional, and national needs and concerns.

Authority: 40 CFR 1501.7, 43 CFR 1610.2, 43 CFR 2091.3-1(e), and 43 CFR 2804.25(e).

Thomas Pogacnik,
Deputy State Director, California.

[FR Doc. 2012-26046 Filed 10-22-12; 8:45 am]

BILLING CODE 4310-40-P